DEPARTMENT OF HEALTH AND HUMAN SERVICES

42 CFR Part 85a

[Docket No. CDC-2014-0001; NIOSH-271]

RIN 0920-AA51

Occupational Safety and Health Investigations of Places of Employment

AGENCY: Centers for Disease Control and Prevention, HHS.

ACTION: Notice of proposed rulemaking; withdrawal.

SUMMARY: The National Institute for Occupational Safety and Health (NIOSH) in the Centers for Disease Control and Prevention (CDC) within the Department of Health and Human Services (HHS) is withdrawing a previously published notice of proposed rulemaking that solicited public comment on minor technical amendments to regulatory text.

DATES: The notice of proposed rulemaking published at 79 FR 2809, January 16, 2014, is withdrawn, effective immediately.

FOR FURTHER INFORMATION CONTACT: Teresa Schnorr Ph.D., Director NIOSH Division of Surveillance, Hazard Evaluations and Field Studies (DSHEFS); 4676 Columbia Parkway, Cincinnati, OH 45226; 513-841-4428 (this is not a toll-free number).

SUPPLEMENTARY INFORMATION: On January 16, 2014, HHS published a notice of proposed rulemaking (NPRM) to make minor technical amendments to the regulatory text in 42 CFR Part 85a (79 FR 2809). On the same date, HHS simultaneously published a companion direct final rule (DFR) that offered identical updates because the agency believed that the revisions were non-controversial and unlikely to generate significant adverse comment (79 FR 2789). In the NPRM preamble, HHS stated that if no significant adverse comments were received by March 17, 2014, the NPRM would be withdrawn and the effective date of the final rule would be confirmed within 30 days of the conclusion of the comment period. HHS received one public comment that was not a significant adverse comment, but rather was in support of the companion NPRM. Because HHS did not receive any significant adverse comments to the NPRM within the specified comment period, we hereby withdraw this NPRM from rulemaking.

Dated: April 3, 2014.
Kathleen Sebelius,
Secretary.

[FR Doc. 2014-07987 Filed 4-9-14; 8:45 am]

BILLING CODE 4163-18-P